ENVIRONMENTAL PROTECTION AGENCY

[ER-FRL-6648-9]

Environmental Impacts Statements; Notice of Availability

Responsible Agency: Office of Federal Activities, General Information (202) 564-7167 or http://www.epa.gov/compliance/nepa/ Weekly receipt of Environmental Impact Statements Filed 2/23/2004 Through 2/27/2004 Pursuant to 40 CFR 1506.9.

EIS No. 040088, Draft EIS, FHW, NE, South Omaha Veterans Memorial Bridge Improvements, Across the Missouri River for Highway US-275 between the Cities of Omaha, Nebraska and Council Bluffs, Iowa, NPDES and US Army COE Section 404 Permit, NE and IA, Comment Period Ends: 4/19/2004, Contact: Edward Kosola (402) 437-5973.

EIS No. 040089, Draft EIS, NSF, AK, Development and Implementation of Surface Traverse Capabilities in Antarctica Comprehensive Environmental Evaluation, AK, Comment Period Ends: 6/3/2004, Contact: Polly A. Penhale 703-292-8033. This document is available on the Internet at: http://www.nsf.gov/od/opp/antarct/treaty/cees/traverse/traverse_cee.pdf

EIS No. 040090, Draft EIS, NSF, AK, Project IceCube Comprehensive Environmental Evaluation, AK, Comment Period Ends: 6/3/2004, Contact: Polly A. Penhale (703) 292-8033. This document is available on the Internet at: http://www.nsf.gov/od/opp/antarct/treaty/cees/icecube/icecube_cee.pdf

EIS No. 040091, Final EIS, AFS, VT, Greendale Project, Establishment of the Desired Condition stated in the Green Mountain National Forest Land and Resource Management Plan, Manchester Ranger District, Town of Western, Windsor County, VT, Wait Period Ends: 4/5/2004, Contact: Jay Strand (802) 767-4261.

EIS No. 040092, Final EIS, NRC, SC, Generic EIS—License Renewal of Nuclear Plants, Virgil C. Summer Nuclear Station, Supplement 15, Fairfield County, SC, Wait Period Ends: 4/5/2004, Contact: William Dam (301) 415-4014. This document is available on the Internet: http://www.nrc.gov/reading-rm/adams.html

EIS No. 040093, Final EIS, NRC, ID, Idaho Spent Fuel Facility, Construction, Operation and Decommissioning, License Application, Idaho National Engineering and Environmental Laboratory, Butte County, ID, Wait Period Ends: 4/5/2004, Contact: Mathew Blevins (301) 415-7684.

This document is available on the Internet: http://www.nrc.gov/reading-rm.html

EIS No. 040094, Final EIS, AFS, OR, Flagtail Fire Recovery Project, To Address the Differences between Existing and Desired Conditions, Blue Mountain Ranger District, Malheur National Forest, Grant County, OR, Wait Period Ends: 4/5/2004, Contact: Linda Batten (541) 575-3000.

This document is available on the Internet at: http://www.fs.fed.us/r6/malheur

EIS No. 040095, Draft EIS, AFS, AZ, Coconino, Kaibab, and Prescott National Forests, Integrated Treatment of Noxious and Invasive Weeds, Implementation, Coconino, Mojave and Yavapai Counties, AZ, Comment Period Ends: 4/19/2004, Contact: Charles Ernst (928) 635-8317.

EIS No. 040096, Draft EIS, DOE, IL, Low Emission Boiler System Proof-of-Concept Project, Construction and Operation of a 91-Megawatt Electric Power Plant, Elkhart, Logan County, IL, Comment Period Ends: 4/19/2004, Contact: Lloyd Lorenzi (412) 386-6159

EIS No. 040097, Final EIS, USN, CA, China Lake Naval Air Weapons Station, Proposed Military Operational Increases and Implementation of Associated Comprehensive Land Use and Integrated Natural Resources Management Plans, Located on the North and South Ranges, Inyo, Kern and San Bernardino Counties, CA, Wait Period Ends: 4/5/2004, Contact: John O'Gara (976) 939-3614.

EIS No. 040098, Draft EIS, FHW, IN, US-31 Improvement from Plymouth to South Bend, Running from Southern Terminus at US-30 to Northern Terminus at US-20, Marshall and St. Joseph Counties, IN, Comment Period Ends: 4/26/2004, Contact: Matt Fuller (317) 226-5234.

EIS No. 040099, Final EIS, FHW, OR, South Medford Interchange Project, Interchange Project, Relocation on 1-5 (Pacific Highway) south of its current location at Barnett Road, Funding, Jackson County, OR, Wait Period Ends: 4/5/2004, Contact: John Gernhauser (503) 399-5749.

EIS No. 040100, Final EIS, COE, SD, NE, IA, MO Missouri River Master Water Control Manual Review and Update, Mainstem Reservoir System, New and Updated Information, Missouri River Basin, SD, NE, IA and MO, Wait Period Ends: 3/19/2004, Contact: Rosemary Hargrave (402) 697-2527.

Under Section 1506.10(d) of the Council on Environmental Quality Regulations for Implementing the Procedural Provisions of the National Environmental Policy Act the U.S. Environmental Protection Agency has Granted a 15-Day Waiver for the above EIS.

This document is available on the Internet at: http://www.usace.army.mil

Dated: March 2, 2004.
Ken Mittelholtz,
Environmental Protection Specialist, Office of Federal Activities.

[FR Doc. 04-5013 Filed 3-4-04; 8:45 am]

BILLING CODE 6560-50-P